NATIONAL AERONAUTICS AND SPACE ADMINISTRATION

[Notice: (11-033)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within sixty calendar days from the date of this publication.

ADDRESSES: All comments should be addressed to Lori Parker, National Aeronautics and Space Administration, Washington, DC 20546-0001.

FOR FURTHER INFORMATION CONTACT: Requests for additional information or copies of the information collection instrument(s) and instructions should be directed to Lori Parker, Office of the Chief Information Officer, Mail Suite 2S65, National Aeronautics and Space Administration, Washington, DC 20546-0001, (202) 358-1351, lori.parker@nasa.gov.

SUPPLEMENTARY INFORMATION:

I. Abstract

The Scientific and Technical Information (STI) Program Office desires to seek out customer feedback from industry, academia, research institutes, other government, as well as individual members of the public, in order to assess the impact of the STI disseminated to those populations in terms of cost avoidance, schedule gain, productivity, innovation, and potential job creation.

II. Method of Collection

We intend to introduce the feedback questionnaire by initially by e-mail in reply to fulfilled information requests initiated by customers; however, customers accessing STI online will also have an option to provide their feedback via e-mail or web-based questionnaire as part of the document retrieval process.

III. Data

Title: NASA STI Impact Assessment.

OMB Number: 2700-XXXX.

Type of review: New Collection.

Affected Public: Industry, academia, research institutes, other government, individuals.

Estimated Number of Respondents: 500 annually.

Estimated Number of Responses per Respondent: 1.

Estimated Time per Response: 2 minutes.

Estimated Total Annual Burden Hours: 17 hours.

Estimated Annual Cost for Respondents: $3.50.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and 4) ways to minimize the burden of the collection of information on respondents, including automated collection techniques or the use of other forms of information technology.

Comments submitted in response to this notice will be summarized and included in the request for OMB approval of this information collection. They will also become a matter of public record.

Fran Teel,
Acting NASA Clearance Officer.

[FR Doc. 2011-8762 Filed 4-12-11; 8:45 am]

BILLING CODE 7510-13-P